DEPARTMENT OF AGRICULTURE

Forest Service

Forest Counties Payments Committee

AGENCY: Forest Service, USDA.

ACTION: Notice of meeting and extension of comment period.

SUMMARY: The Forest Counties Payments Committee will meet in Rapid City, South Dakota, on April 20, 2002. The purpose of the meeting is to receive comments from both elected officials and the general public on the recommendations the Committee must make to Congress as specified in Section 320 of the Fiscal Year 2001 Interior and Related Agencies Appropriations Act. The meeting will consist of a public input session from 1 p.m. until 5 p.m. This notice also provides an extension of the comment period associated with the Forest Counties Payments Committee meeting held in Reno, Nevada, on April 20, 2002 (67 FR 5087, February 4, 2002).

DATES: The Rapid City, South Dakota, meeting will be held on May 17, 2002. Persons who attended or spoke at the Reno, Nevada, meeting, who will attend the Rapid City, South Dakota, meeting, or who are otherwise interested in providing comments to the Committee on payments to counties in South Dakota and Nevada have until June 30 to submit their written comments. Comments received after that date will be considered to the extent possible.

ADDRESSES: The May 17 meeting will be held at the Holiday Inn Rushmore Plaza, 505 North Fifth Street, Rapid City, South Dakota. Those who cannot be present may submit written responses to the questions listed in SUPPLEMENTARY INFORMATION in this notice to Randle G. Phillips, Executive Director, Forest Counties Payments Committee, P.O. Box 34718, Washington, D.C. 20043-4713, or electronically at the Committee's website at http://countypayments.gov/comments.html.

FOR FURTHER INFORMATION CONTACT: Randle G. Phillips, Executive Director, Forest Counties Payments Committee, (202) 208-6574 or via e-mail at rphillips01@fs.fed.us.

SUPPLEMENTARY INFORMATION: Section 320 of the 2001 Interior and Related Agencies Appropriations Act (Pub. L. 106-291) created the Forest Counties Payments Committee to make recommendations to Congress on a long-term solution for making Federal payments to eligible States and counties in which Federal lands are situated. To formulate its recommendations to Congress, the Committee will consider the impact on eligible States and counties of revenues from the historic multiple use of Federal lands; evaluate the economic, environmental, and social benefits which accrue to counties containing Federal lands; evaluate the expenditures by counties on activities occurring on Federal lands which are Federal responsibilities; and monitor payments and implementation of the Secure Rural Schools and Community Self-Determination Act of 2000 (Pub. L. 106-393).

At the May 17 meeting in Rapid City, South Dakota, the Committee asks that elected officials and others who wish to comment provide information in response to the following questions:

1. Do counties receive their fair share of federal revenue-sharing payments made to eligible States?

2. What difficulties exist in complying with, and managing all of the federal revenue-sharing payments programs? Are some more difficult than others?

3. What economic, social, and environmental costs do counties incur as a result of the presence of public lands within their boundaries?

4. What economic, social, and environmental benefits do counties realize as a result of public lands within their boundaries?

5. What are the economic and social effects from changes in revenues generated from public lands over the past 15 years, as a result of changes in management on public lands in your State or county?

6. What actions has your State or county taken to mitigate any impacts associated with declining economic conditions, or revenue-sharing payments?

7. What effects, both positive and negative, have taken place with education and highway programs that are attributable to the management of public lands within your State or county?

8. What relationship, if any, should exist between federal revenue-sharing programs, and management activities on public lands?

9. What alternatives exist to provide equitable revenue-sharing to States and counties and to promote “sustainable forestry?'

10. What has been your experience regarding implementation of Public Law 106-393, The Secure Rural Schools and Community Self-Determination Act?

11. What changes in law, policies and procedures, and the management of public land have contributed to changes in revenue derived from the multiple-use management of these lands?

12. What changes in law, policies and procedures, and the management of public land are needed in order to restore the revenues derived from the multiple-use management of these lands?

Persons interested in the payments to Nevada counties also are requested to address these same questions and also have until June 30 to submit their views in writing to the Committee.

Dated: April 29, 2002.
Elizabeth Estill,
Deputy Chief for Programs and Legislation.

[FR Doc. 02-11111 Filed 5-3-02; 8:45 am]

BILLING CODE 3410-11-P